NUCLEAR REGULATORY COMMISSION

[Docket Nos. 50-348, 50-366, 50-321, 50-366, 50-424, and 50-425; NRC-2020-0068]

Southern Nuclear Operating Company; Farley Nuclear Plant, Units 1 and 2; Hatch Nuclear Power Plant, Units 1 and 2; and Vogtle Electric Generating Plant, Units 1 and 2

AGENCY: Nuclear Regulatory Commission.

ACTION: Exemption; issuance.

SUMMARY: The U.S. Nuclear Regulatory Commission (NRC) has issued exemptions in response to an October 31, 2019, request from Southern Nuclear Operating Company (SNC). The exemptions would allow SNC to submit changes to the Quality Assurance Topical Report that do not reduce commitments on a 24-month calendar schedule.

DATES: The exemption was issued on March 12, 2020.

ADDRESSES: Please refer to Docket ID NRC-2020-0068 when contacting the NRC about the availability of information regarding this document. You may obtain publicly-available information related to this document using any of the following methods:

• Federal Rulemaking website: Go to https://www.regulations.gov and search for Docket ID NRC-2020-0068. Address questions about NRC docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The exemption request dated October 31, 2019, “Quality Assurance Topical Report Submittal Request for Schedular Exemption—10 CFR 50.54(a)(3)” is available in ADAMS under Accession No. ML19304C213.

• NRC's PDR: You may examine and purchase copies of public documents at the NRC's PDR, Room O1-F21, One White Flint North, 11555 Rockville Pike, Rockville, Maryland 20852.

FOR FURTHER INFORMATION CONTACT: John G. Lamb, Office of Nuclear Reactor Regulation, U.S. Nuclear Regulatory Commission, Washington DC 20555-0001; telephone: 301-415-3100, email: John.Lamb@nrc.gov.

SUPPLEMENTARY INFORMATION: The text of the exemption is attached.

Dated at Rockville, Maryland, this 13th day of March, 2020.
For the Nuclear Regulatory Commission.
John G. Lamb,
Senior Project Manager, Plant Licensing Branch II-1, Division of Operating Reactor Licensing, Office of Nuclear Reactor Regulation.

Attachment Exemption

Nuclear Regulatory Commission

Docket Nos. 50-348, 50-364, 50-321, 50-366, 50-424, and 50-425, Southern Nuclear Operating Company, Joseph M. Farley Nuclear Power Plant, Units Nos. 1 and 2; Edwin I. Hatch Nuclear Plant, Units Nos. 1 and 2; and Vogtle Electric Generating Plant, Unit Nos. 1 and 2, Exemption

I. Background

Southern Nuclear Operating Company (SNC, the licensee) is the holder of the Renewed Facility Operating Licenses (RFOLs) Nos. NPF-2 and NPF-8 for Joseph M. Farley Nuclear Plant, Unit Nos. 1 and 2 (Farley), which consist of two pressurized-water reactors (PWRs) located in Houston County, Alabama; DPR-57 and NPF-5 for Edwin I. Hatch Nuclear Plant, Unit Nos. 1 and 2 (Hatch), which consist of two boiling-water reactors (BWRs) located in Appling County, Georgia; and NPF-68 and NPF-81 for Vogtle Electric Generating Plant, Unit Nos. 1 and 2 (Vogtle), which consist of two PWRs located in Burke County, Georgia. The RFOLs provide, among other things, that the facilities are subject to all the rules, regulations, and orders of the U.S. Nuclear Regulatory Commission (NRC, Commission) now or hereafter in effect.

II. Request/Action

Title 10 of the Code of Federal Regulations (10 CFR), Section 50.54(a)(3), requires that changes to the quality assurance program description that do not reduce commitments must be submitted to the NRC in accordance with the reporting requirements of 10 CFR 50.71(e).

The regulation at 10 CFR 50.71(e)(4) requires that revisions to the final safety analysis report (FSAR) be submitted annually or six months after a refueling outage, provided the interval between updates does not exceed 24 months. SNC's exemption request proposes that changes to the quality assurance program that do not reduce commitments be submitted on a 24-month calendar schedule, not to exceed 24 months from the previous submittal. The exemptions would apply to each of the plants identified above.

III. Discussion

Pursuant to 10 CFR 50.12, the Commission may, upon application by any interested person or upon its own initiative, grant exemptions from the requirements of 10 CFR part 50 when (1) the exemptions are authorized by law, will not present an undue risk to public health and safety, and are consistent with the common defense and security; and (2) any of the special circumstances listed in 10 CFR 50.12(a)(2) are present. The special circumstances as stated in 10 CFR 50.12(a)(2), include, among other things that “Application of the regulation in the particular circumstances would not serve the underlying purpose of the rule or is not necessary to achieve the purpose of the rule.”

Operational quality assurance programs are generally described in Chapter 17.2 of a licensee's Updated Safety Analysis Report (USAR) or, alternately, in a topical report incorporated into the USAR by reference. SNC's quality assurance program, described in the Quality Assurance Topical Report (QATR), is common to the 6 units requesting the exemptions. Compliance with 10 CFR 50.54(a)(3) and 10 CFR 50.71(e)(4) would require these changes to be submitted annually or after a refueling outage for each of the licensee's units.

A. The Exemption Is Authorized by Law

In accordance with 10 CFR 50.12, the NRC may grant an exemption from the requirements of 10 CFR part 50, if the exemption is authorized by law. As stated in 10 CFR 50.71(e)(4), subsequent revisions of the FSAR must be filed annually or 6 months after each refueling outage provided the interval between successive updates does not exceed 24 months.

SNC stated that changes to the QATR will be reviewed through the existing applicable administrative and programmatic control processes to ensure QATR changes are evaluated and implemented properly. Therefore, the NRC staff finds that the alternative reporting cycle of 24 months for submitting QATR changes specified under 10 CFR 50.54(a)(3) provides adequate control. Further, the exemptions propose that changes to the quality assurance program that do not reduce commitments be submitted on a 24-month calendar schedule, not to exceed the 24-month limit specified in 10 CFR 50.71(e)(4). Therefore, the NRC staff finds that this exemption request is authorized by law, because granting the licensee's proposed exemptions will not result in a violation of the Atomic Energy Act of 1954, as amended, or the Commission's regulations.

B. The Exemption Presents No Undue Risk to Public Health and Safety

The licensee stated that the proposed exemptions will not alter the manner in which changes to the common QATR are evaluated and that there is no reduction in commitment. SNC stated that changes to the QATR will be reviewed through the existing applicable administrative and programmatic control processes to ensure that QATR changes are evaluated and implemented properly. The regulation 10 CFR 50.54(a)(3) requires licensees to provide their QATRs periodically per 10 CFR 50.71(e) to assure that the NRC has the latest material developed by SNC. In 10 CFR 50.71(e)(4), the NRC has determined that an update frequency not to exceed 24 months between successive updates to be acceptable for periodic submissions of the QATR. The exemptions propose that changes to the QATR that do not reduce commitments be submitted on a 24-month calendar schedule, not to exceed 24 months from the previous submittal. Therefore, the NRC staff finds that the proposed exemptions provide an equivalent level of protection to the existing requirements. Further, QA Program changes that are not considered to be reductions in commitment involve, among other things, administrative improvements and clarifications, spelling corrections, punctuation, or editorial items. Therefore, the NRC staff finds that the changes specified in 10 CFR 50.54(a)(3) are administrative and routine in nature.

Also, based on its review of the exemption request, the NRC staff concludes that the requested exemptions would not result in any significant reduction in the effectiveness of the QA program implemented by SNC. Based on the foregoing reasons, the NRC staff concludes that the proposed exemption would not present an undue risk to the public health and safety.

C. The Exemption Is Consistent With the Common Defense and Security

This exemption requests periodic updates of the SNC QATR to be submitted every 24 months, not to exceed 24 months from the previous submittal. Upon issuance of the exemptions, the regulatory requirement that an update be submitted annually or within six months following each plant's refueling outage would not be retained. Since the underlying intent of the regulation is to ensure that QATR changes that do not reduce the level of commitment are periodically submitted to the NRC, and the required schedule per 10 CFR 50.71(e)(4) allows for 24 months between periodic submittals, the NRC staff finds that processing more frequent changes to the common QATR is not an effective or efficient allocation of resources nor is it necessary to achieve the purpose of the rule. Moreover, as noted above, the proposed exemptions provide an equivalent level of protection to the existing regulation in that changes to the QATR that do not reduce commitments must be submitted on a schedule not to exceed 24 months of the SNC QATR from the previous submittal. Therefore, the common defense and security are not affected by this exemption request.

D. Special Circumstances

The regulation under 10 CFR 50.12(a)(2) states, in part, that “[t]he Commission will not consider granting an exemption unless special circumstances are present,” and identifies, in 10 CFR 50.12(a)((i)-(vi), when special circumstances are present. The NRC staff determined that special circumstances are present. Special circumstances, in accordance with 10 CFR 50.12(a)(ii), are present whenever application of the regulation in the particular circumstances would not serve the underlying purpose of the rule or is not necessary to achieve the underlying purpose of the rule.

As stated in 10 CFR 50.71(e)(4), subsequent revisions to the FSAR must be filed annually or 6 months after each refueling outage provided the interval between successive updates does not exceed 24 months. The underlying purpose of the rule is to ensure that periodic submittals required under 10 CFR 50.54(a)(3) would allow the NRC staff to provide regulatory oversight to changes to the licensee's QA program, and to ensure that the changes are consistent with the regulations. The exemptions requested by SNC only extend the reporting period, and do not exceed the 24-month time period between successive updates established by 10 CFR 50.71(e). Thus, SNC would still provide updates of their QATR to the NRC periodically every 24 months, allowing periodic NRC oversight of changes to the licensee's QA program. Therefore, the NRC staff finds that application of the regulation in this particular circumstance is not necessary to achieve the underlying purpose of the rule.

Accordingly, the NRC staff concludes that, pursuant to 10 CFR 50.12(a)(2)(ii), special circumstances are present.

E. Environmental Considerations

Pursuant to 10 CFR 51.22(b) and 10 CFR 51.22(c)(25), the granting of an exemption from the requirements of any regulation in Chapter I of 10 CFR meets the eligibility criteria for categorical exclusion provided that: (1) There is no significant hazards consideration; (2) there is no significant change in the types or significant increase in the amounts of any effluents that may be released offsite; (3) there is no significant increase in individual or cumulative public or occupational radiation exposure; (4) there is no significant construction impact; (5) there is no significant increase in the potential for or consequences from radiological accidents; and (6) the requirements from which an exemption is sought are among those identified in 10 CFR 51.22(c)(25)(vi), including requirements of an administrative, managerial, or organizational nature.

There Is No Significant Hazards Consideration

The criteria for determining whether an action involves a significant hazards consideration are found in 10 CFR 50.92. The proposed exemptions involve only a schedule change regarding the submission of an update to the QATR. The proposed exemptions do not adversely affect plant equipment, operation, or procedures. Therefore, there are no significant hazard considerations, because granting the exemptions would not: (1) Involve a significant increase in the probability or consequences of an accident previously evaluated; or (2) create the possibility of a new or different kind of accident from any accident previously evaluated; or (3) involve a significant reduction in a margin of safety.

There Is No Significant Change in the Types or Significant Increase in the Amounts of Any Effluents That May Be Released Offsite

The proposed action involves only a schedule change, which is administrative in nature, and does not involve any changes in the types or significant increase in the amounts of any effluents that may be released offsite.

There Is No Significant Increase in Individual or Cumulative Public or Occupational Radiation Exposure

Since the proposed action involves only a schedule change, which is administrative in nature, it does not contribute to any significant increase in occupational or public radiation exposure.

There Is No Significant Construction Impact

Since the proposed action involves only a schedule change, which is administrative in nature, it does not involve any construction impact.

There Is No Significant Increase In the Potential For or Consequences From Radiological Accidents

The proposed action involves only a schedule change, which is administrative in nature and does not impact the potential for or consequences from accidents.

The Requirements From Which the Exemption Is Sought Involve Requirements That are Administrative in Nature

The proposed action involves scheduling requirements and other requirements of an administrative, managerial, or organizational nature, because it is associated with the schedule submittal requirements contained in 10 CFR 50.54(a)(3), and 10 CFR 50.71(e)(4), which require that the QATR be filed annually or six months after each refueling outage, provided the interval between successive updates does not exceed 24 months.

Based on the above, NRC finds that the exemptions meet the eligibility criteria for the categorical exclusion set forth in 10 CFR 51.22(c)(25). Therefore, in accordance with 10 CFR 51.22(b), no environmental impact statement or environmental assessment need be prepared in connection with this exemption request.

IV. Conclusions

Accordingly, the Commission has determined that pursuant to 10 CFR part 50.12, the exemptions are authorized by law, will not present an undue risk to the public health and safety, and are consistent with the common defense and security. Also, special circumstances are present. Therefore, the Commission hereby grants the licensee exemptions from the requirements of 10 CFR 50.54(a)(3) and 10 CFR 50.71(e)(4) for the Farley, Hatch, and Vogtle plants.

The exemptions are effective upon issuance.

Dated at Rockville, Maryland, this 11th day of March 2020.

For the Nuclear Regulatory Commission.

/RA/

Craig G. Erlanger, Director,

Division of Operating Reactor Licensing,

Office of Nuclear Reactor Regulation.

[FR Doc. 2020-05646 Filed 3-17-20; 8:45 am]

BILLING CODE 7590-01-P